DEPARTMENT OF AGRICULTURE

Foreign Agricultural Service

Section 108 Foreign Currency Program

AGENCY: Foreign Agricultural Service, USDA.

ACTION: Notice.

SUMMARY: The Foreign Agricultural Service invites proposals from interested parties to use Tunisian dinars acquired by the United States for activities to expand markets for U.S. agricultural commodities and for technical assistance activities.

FOR FURTHER INFORMATION CONTACT: Marketing Operations Staff, Foreign Agricultural Service, U.S. Department of Agriculture, Room 4932-S, STOP 1042, 1400 Independence Ave., SW., Washington, DC 20250-1042, (202) 720-4327.

SUPPLEMENTARY INFORMATION:

Introduction

The Foreign Agricultural Service (FAS) will make available Tunisian dinars to provide assistance in market development and agricultural technical assistance activities. These foreign currencies were acquired by USDA pursuant to agreements made under Title I of the Agricultural Trade Development and Assistance Act of 1954, (Pub. L. 480).

Title I, Pub. L. 480 authorizes the U.S. government to finance the sale and exportation of agricultural commodities to foreign governments on concessional terms. Between 1986 and 1991, the U.S. entered into various Title I, Pub. L. 480 agreements with foreign governments, on terms which allowed repayment to the United States in local currencies. Pub. L. 480 authorizes the U.S. government to use these foreign currencies to implement market development and agricultural technical assistance activities.

This announcement supersedes all previous announcements regarding this program. On January 8, 2002, FAS published a notice in the Federal Register (67 FR 862-864) inviting proposals to use currencies of the Dominican Republic, Jamaica, Sri Lanka, and Tunisia for market development projects and technical assistance activities. The currencies of the Dominican Republic, Jamaica, and Sri Lanka, which were available under the previous announcements, are no longer available.

FAS must disburse local currencies to program participants, usually through the disbursing officer in the U.S. embassy in the country of origin. That is, FAS may not convert the local currency to any other currency prior to disbursement. It is the responsibility of the recipient to arrange for receiving and using the foreign currencies made available, or converting the funds to other currencies. Applicants should note that Tunisian currency may not be readily convertible.

Proposal Process

This notice is complemented by concurrent notices announcing five other foreign market development programs administered by FAS, including the Market Access Program (MAP), the Foreign Market Development Cooperator (Cooperator) Program, the Emerging Markets Program, the Technical Assistance for Specialty Crops Program, and the Quality Samples Program. The MAP and Cooperator Program notices detail a Unified Export Strategy (UES) application process which provides a means for interested applicants to submit a consolidated and strategically coordinated single proposal that incorporates funding requests for any or all of these programs. Some applicants to the section 108 foreign currency program, particularly those who are applying for funding under more than one program, may wish to use the UES application process. The Internet-based UES application, including step-by-step instructions for its use, is located at the following URL address: http://www.fas.usda.gov/cooperators.html. Other applicants, particularly those who are applying for funding only under the section 108 foreign currency program, should follow the application procedures contained in this notice. Interested applicants that are unsure of how to apply are urged to contact the Marketing Operations Staff at the address or phone number above.

FAS recommends that proposals to participate in the section 108 foreign currency program contain, at a minimum, the following:

(a) Organizational information, including:

• Organization's name, address, Chief Executive Officer (or designee), and Federal Tax Identification Number (TIN);

• Type of organization, e.g., corporation, non-profit organization;

• Name, telephone number, fax number, and e-mail address of the primary contact person;

• If a trade organization, a description of the organization and its membership;

• A description of the organization's prior export promotion experience; and

• A description of the organization's experience in implementing a trade or technical assistance activity;

(b) Market information, including:

• An assessment of the targeted market;

• A long-term strategy in the market; and

• U.S. export value/volume and market share data and goals for 2000-2005;

(c) Project information, including:

• A brief project title;

• Request for funding in one of the available foreign currencies;

• A brief description of the specific market development trade constraint to be addressed by the project, performance measures for the years 2003-2005 which will be used to measure the effectiveness of the project, a benchmark performance measure for 2003, the viability of long term sales to this market, the goals of the project, and the expected benefits to the represented industry;

• A method for evaluating and reporting results;

• A description of the activities planned to address the constraint; and

• An itemized list of all estimated costs associated with each project activity for which reimbursement will be sought;

(d) Information indicating all funding sources and amounts to be contributed by each entity that will supplement implementation of the proposed project. This may include the organization that submitted the proposal, private industry entities, host governments, foreign third parties, Commodity Credit Corporation, FAS, or other Federal agencies. Contributed resources may include cash or goods and services; and,

(e) A completed Standard Form 424 (SF-424). This form is available on the Internet via the section 108 fact sheet at the following URL address: http://www.fas.usda.gov/info/factsheets/108fact.htm, or by calling the contact listed above.

Review Process and Allocation Criteria

The FAS allocates funds in a manner which effectively supports the strategic decision-making initiatives of the Government Performance and Results Act (GPRA) of 1993 and the USDA's Food and Agricultural Policy (FAP). In deciding whether a proposed project will contribute to the effective creation, expansion, or maintenance of foreign markets, the FAS seeks to identify a clear, long-term agricultural trade strategy and a program effectiveness time line against which results can be measured at specific intervals using quantifiable product or country goals. The FAS also considers the extent to which a proposed project targets markets with the greatest growth potential. These factors are part of the FAS resource allocation strategy to fund applicants who can demonstrate performance and address the objectives of the GPRA and FAP. FAS will provide financial assistance under this program on a competitive basis and applications will be reviewed against the evaluation criteria contained herein. Each proposal will be evaluated by the applicable FAS commodity division. The divisions will recommend funding levels for each applicant based on a review of the applications against the following factors:

• The ability of the organization to provide an experienced staff with the requisite technical and trade expertise to execute the proposal;

• The funding request and the organization's willingness to contribute resources, including cash, goods and services of the U.S. industry and foreign third parties;

• The conditions or constraints affecting the level of U.S. exports and market share for the agricultural commodities and products;

• The degree to which the proposed project is likely to contribute to the creation, expansion, or maintenance of the targeted foreign market; and

• The degree to which the organization's proposal is coordinated with other private or U.S. government-funded market development projects.

The purpose of this review is to identify meritorious proposals and to suggest an appropriate funding level for each application based upon these factors. Meritorious proposals will then be reviewed by representatives of each FAS program area for the purpose of allocating available funds among the applicants.

Preference is given to nonprofit U.S. agricultural trade organizations that represent an entire industry or are nationwide in membership and scope.

Note: FAS generally reviews section 108 proposals on a quarterly basis. However, FAS may also consider proposals on an accelerated basis if an urgent marketing opportunity becomes available. FAS will evaluate such proposals according to the criteria specified in this notice.

Agreements

Following approval of a proposal, FAS will enter into an agreement with the organization that submitted the proposal. Agreements will incorporate the project details as approved by FAS and specify any other terms and conditions applicable to project funding. Agreements include the maximum amount of funds, in local currencies rather than U.S. dollars, which may be made available for a participant's approved activities. All agreements with non-profit organizations under this program are administered under 7 CFR 3019—Uniform Administrative Requirements for Grants and Cooperative Agreements with Institutions of Higher Education, Hospitals, and other Non-profit Organizations. These regulations can be found on the Internet at the following URL address: http://www.access.gpo.gov/nara/cfr/waisidx_01/7cfr3019_01.html.

Submission of Proposals

Applicants may submit proposals at any time. However, all Internet-based section 108 proposals (using the UES application) must be properly submitted by 5 p.m. Eastern Standard Time, March 10, 2003, because the UES entry Web site closes at that time. Signed SF-424 forms must be delivered to one of the addresses listed below.

All proposals on diskette (with two accompanying paper copies and a signed SF-424 form) and any other proposals must be delivered to one of the following addresses:

Hand Delivery (including FedEx, DHL, UPS, etc.): U.S. Department of Agriculture, Foreign Agricultural Service, Marketing Operations Staff, Room 4932-S, 14th and Independence Ave., SW., Washington, DC 20250-1042.

U.S. Postal Delivery: U.S. Department of Agriculture, Foreign Agricultural Service, Marketing Operations Staff, STOP 1042, 1400 Independence Ave., SW., Washington, DC 20250-1042.

Signed at Washington, DC, on January 8, 2003.
Kenneth J. Roberts,
Acting Administrator, Foreign Agricultural Service.

[FR Doc. 03-1119 Filed 1-16-03; 8:45 am]

BILLING CODE 3410-10-P